DEPARTMENT OF AGRICULTURE

Forest Service

Revision of Land Management Plan, Dixie and Fishlake National Forests, Located in Southwest Utah.

AGENCY: Forest Service, USDA.

ACTION: Notice of adjustment to Federal Register Notice of Vol. 67, No. 90, p. 31178, May 9, 2002, and Vol. 67, No. 91, p. 31761, May 10, 2002, and transition to the 2005 Planning Rule at 36 CFR 219 (FR Vol. 70, No. 3./January 5, 2005, 1023).

SUMMARY: The Dixie and Fishlake National Forests will exercise their option to adjust the land management plan revision process from compliance with the 1982 planning regulations, to conform with new planning regulations adopted in January 2005.

This adjustment will have the following effects:

1. The new rule redefines forest plans to be more strategic and flexible to better facilitate adaptive management and public collaboration.

2. The new rule focuses more on the goals of ecological, social, and economic sustainability and less on prescriptive means of producing goods and services.

3. The Responsible Official who will approve the final plan will now be the Forest Supervisor instead of the Regional Forester.

4. The forests will establish an environmental management system (per ISO 14001:2004(E)) prior to completion of the revised forest plan.

5. The emphasis of public involvement will be a collaborative effort between the public and the Forest Service to incorporate the most desirable management options into a single broadly supported management direction package that will become the Forest Plan.

6. Administrative review will change from a post-decision appeals process to a predecision objection process.

Public Involvement:

There has been a great deal of public participation and collaborative work on this planning process over the past few years, including more than 75 public meetings. Results of this work and a preliminary proposed action are available for review and comment. Current information and details of public participation opportunities are posted on our Web site: http://www.fs.fed.us/r4/dixie/projects/FParea/HomePage.htm. Contact Ellen Row at (435) 896-9233, or email at, ellenrow@fs.fed.us to be placed on our mailing list.

ADDRESSES: Mailing address: Dixie and Fishlake Forest Plan Revision, 115 E 900 North, Richfield UT, 84701.

FOR FURTHER INFORMATION CONTACT: Frank Fay, Planning Team Leader, Fishlake National Forest, (435) 896-9233 or email: ffay@fs.fed.us; or view our Web site at http://www.fs.fed.us/r4/dixie/projects/FParea/HomePage.htm.

DATES: Transition is effective immediately upon publication of this notice in the Federal Register.

Responsible Officials: Robert A. Russell, Forest Supervisor, Cedar City, Dixie National Forest, 1789 N. Wedgewood Lane, Cedar City UT, 84720. Mary C. Erickson, Forest Supervisor, Richfield, Fishlake National Forest, 115 E 900 North, Richfield UT, 84701.

SUPPLEMENTARY INFORMATION: The Dixie and Fishlake National Forests are separate administrative units with separate forest plans. However, due to similar ecology, interested publics, and financial resources, the two forest plans are being revised with a single planning team. In May of 2002, the forests formally initiated a land management plan revision process with publication of a notice of intent to prepare an environmental impact statement for plan revision. The forests began an extensive public participation and collaboration process. The planning team has been working on comprehensive analyses of conditions and trends for the ecological, social and economic components of the plan area and related scales of analysis.

The first phase of public participation was focused primarily on development of “vision” statements, desired conditions, management issues, and suitable land uses to be incorporated into the preliminary proposed action. Over sixty community meetings were conducted in this effort. During the second phase, the planning team met with the public to review the content of the preliminary proposal and to get feedback as to its desirability and feasibility. The review and feedback phase is ongoing. The planning team will draft a summary of findings from the analyses of ecological, social, and economic conditions in the form of a Comprehensive Evaluation Report. Many of these analyses have already been developed with and reviewed by public participants. We are still accepting feedback on the preliminary proposed action and the analyses. We will use these comments to further modify the plan proposal. The planning team will take additional collaborative steps to finish the draft plan components and to identify potential options. Remaining work includes drafting a summary of condition and trend analyses, plan components for formal review and comment, a monitoring program, and an environmental management system.

This is an open planning process with numerous opportunities for the public to obtain information, provide comment, or participate in collaborative stakeholder activities. The focal points of future collaborative work will be: (1) Review and adjustment of the preliminary proposed action (2) identification and development of management objectives to assist in attaining or maintaining desired conditions, (3) formulation of guidelines to serve as operational controls to help ensure projects move toward or maintain desired conditions, and (4) development of the plan monitoring framework and environmental management system to guide adaptive management. We expect to complete this phase of collaboration by early Fall of 2005. Our remaining forest plan revision schedule will be approximately as follows:

Release of Draft Forest Plan and start of 90-day public comment period | Winter 2005-06
Release of Final Plans and start of 30-day objection period | Summer 2006
Final decision and start of plan implementation | Fall 2006

Please see our website to review proposed management direction in progress and other details.

Dated: July 25, 2005.
Robert A. Russell,
Forest Supervisor, Dixie National Forest.
Dated: July 22, 2005.
Mary C. Erickson,
Forest Supervisor, Fishlake National Forest.

[FR Doc. 05-15424 Filed 8-3-05; 8:45 am]

BILLING CODE 3410-ES-M